DEPARTMENT OF TRANSPORTATION

Federal Aviation Administration

14 CFR Part 71

[Docket No. FAA-2015-4532; Airspace Docket No. 15-AEA-10]

Amendment of Class D Airspace and Class E Airspace for the Following New York Towns; Ithaca, NY; Poughkeepsie, NY

AGENCY: Federal Aviation Administration (FAA), DOT.

ACTION: Final rule; delay of effective date, correction.

SUMMARY: This action changes the effective date of a final rule published in the Federal Register of February 4, 2016, amending Class E Airspace designated as an extension at Ithaca Tompkins Regional Airport, Ithaca, NY; and the Kingston VORTAC, Poughkeepsie, NY. This correction updates the geographic coordinates of each navigation aid and Ithaca Tompkins Regional Airport (formerly Tompkins County Airport), under Class D airspace and Class E surface area airspace to coincide with the FAA's aeronautical database. Also, Dutchess County Airport is added to the Kingston VORTAC, Poughkeepsie, NY, designation in Class E airspace designated as an extension. The Kingston VORTAC reference is removed from the Class D airspace designation. This action also adds Class D airspace to the title of this rulemaking.

DATES: This correction is effective 0901 UTC, May 26, 2016, and the effective date of the rule amending 14 CFR part 71, published on February 4, 2016 (81 FR 5902), is delayed to 0901 UTC May 26, 2016. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

History

The Federal Register published a final rule amending Class E Airspace Designated as an Extension at Ithaca Tompkins Regional Airport, Ithaca, NY, (formerly Tompkins County Airport), and the Kingston VORTAC, Poughkeepsie, NY (81 FR 5902, February 4, 2016) Docket No. FAA-2015-4532. Further review revealed the geographic coordinates for the airport and navaids needed to be amended in Class D airspace and Class E surface area airspace. It is also noted that the Kingston VORTAC is erroneously listed in Class D airspace for Poughkeepsie, NY, and is removed. Also, Class D Airspace is added to the title.

Class D and Class E airspace designations are published in paragraphs 5000, 6002, and 6004, respectively, of FAA Order 7400.9Z dated August 6, 2015, and effective September 15, 2015, which is incorporated by reference in 14 CFR part 71.1. The Class D and Class E airspace designations listed in this document will be published subsequently in the Order. These are administrative corrections and do not affect the controlled airspace boundaries or operating requirements supporting operations in the Ithaca and Poughkeepsie, NY areas.

Availability and Summary of Documents for Incorporation by Reference

This document amends FAA Order 7400.9Z, Airspace Designations and Reporting Points, dated August 6, 2015, and effective September 15, 2015. FAA Order 7400.9Z lists Class A, B, C, D, and E airspace areas, air traffic service routes, and reporting points.

Correction to Final Rule

Accordingly, pursuant to the authority delegated to me, in the Federal Register of February 4, 2016 (81 FR 5902) FR Doc. FAA-2016-02040, Amendment of Class E Airspace for the following NY Towns; Ithaca, NY; Poughkeepsie, NY, is corrected as follows:

On page 5902, column 2, beginning on line 6, remove the following text: “Amendment of Class E Airspace for the following New York Towns; Ithaca, NY; Poughkeepsie, NY” and add in its place “Amendment of Class D and E Airspace for the following New York Towns; Ithaca, NY, Poughkeepsie, NY

On page 5903, column 2, after line 23, add the following text:

Paragraph 5000 Class D Airspace.

* * * * *

AEA NY D Ithaca, NY [Corrected]

Ithaca Tompkins Regional Airport, Ithaca, NY

(Lat. 42°29′29″ N., long. 76°27′31″ W.)

That airspace extending upward from the surface to and including 3,600 feet MSL within a 4-mile radius of Ithaca Tompkins Regional Airport. This Class D airspace area is effective during specific dates and times established in advance by a Notice to Airmen. The effective date and time will thereafter be published continuously in the Airport/Facility Directory.

AEA NY D Poughkeepsie, NY [Corrected]

Dutchess County Airport, Poughkeepsie, NY

(Lat. 41°37′36″ N., long. 73°53′03″ W.)

That airspace extending upward from the surface to and including 2,700 feet MSL within a 4-mile radius of Dutchess County Airport. This Class D airspace area is effective during the specific dates and times established in advance by a Notice to Airmen. The effective date and time will thereafter be continuously published in the Airport/Facility Directory.

Paragraph 6002 Class E Surface Area Airspace

* * * * *

AEA NY E2 Ithaca, NY [Corrected]

Ithaca Tompkins Regional Airport, Ithaca, NY

(Lat. 42°29′29″ N., long. 76°27′31″ W.)

Ithaca VOR/DME

(Lat. 42°29′42″ N., long. 76°27′35″ W.)

Within a 4-mile radius of Ithaca Tompkins Regional Airport and that airspace extending upward from the surface from the 4-mile radius of the airport to the 5.7-mile radius of the airport clockwise from the 329° bearing to the 081° bearing from the airport; that airspace from the 4-mile radius of the airport to the 8.7-mile radius of the airport extending clockwise from the 081° bearing to the 137° bearing from the airport; that airspace from the 4-mile radius of the airport to the 6.6-mile radius of the airport extending clockwise from the 137° bearing to the 170° bearing from the airport; that airspace from the 4-mile radius to the 5.7-mile radius of the airport extending clockwise from the 170° bearing to the 196° bearing from the airport, and that airspace within 2.7 miles each side of the Ithaca VOR/DME 305° radial extending from the 4-mile radius of the airport to 7.4 miles northwest of the Ithaca VOR/DME. This Class E airspace area is effective during the specific dates and times established in advance by a Notice to Airmen. The effective date and time will thereafter be continuously published in the Airport/Facility Directory.

* * * * *

AEA NY E2 Poughkeepsie, NY [Corrected]

Dutchess County Airport, Poughkeepsie, NY

(Lat. 41°37′36″ N., long. 73°53′03″ W.)

Kingston VORTAC

(Lat. 41°39′56″ N., long. 73°49′20″ W.)

Within a 4-mile radius of the Dutchess County Airport; and that airspace extending upward from the surface within 3.1 miles each side of the Kingston VORTAC 025° radial extending from the VORTAC to 8.3 miles northeast of the VORTAC, and within 1.8 miles each side of the Kingston VORTAC 231° radial extending from the 4-mile radius to 9.2 miles southwest of the VORTAC and within 3.1 miles each side of the Kingston VORTAC 050° radial extending from the VORTAC to 9.2 miles northeast of the VORTAC. This Class E airspace area is effective during the specific dates and times established in advance by a Notice to Airmen. The effective date and time will thereafter be continuously published in the Airport/Facility Directory.

Issued in College Park, Georgia, on March 23, 2016.
Jim Dickinson,
Acting Manager, Operations Support Group, Eastern Service Center, Air Traffic Organization.

[FR Doc. 2016-07077 Filed 3-29-16; 8:45 am]

BILLING CODE 4910-13-P